DEPARTMENT OF JUSTICE

Department of Justice Information Quality Guidelines for Information Disseminated to the Public

AGENCY: Justice Management Division, Justice.

ACTION: Notice of availability of guidelines.

SUMMARY: The Department of Justice, in accordance with Section 515 of the Treasury and General Government Appropriations Act for FY 2001 (Pub. L. 106-554) and the Office of Management and Budget Guidelines for Ensuring and Maximizing the Quality, Objectivity, Utility, and Integrity of Information Disseminated by Federal Agencies published in the Federal Register on September 28, 2001 (66 FR 49718) and on January 3, 2002 (67 FR 369) (and reprinted in their entirety on February 22, 2002, 67 FR 8452), has posted its final Information Quality Guidelines for Information Disseminated to the Public on the DOJ Web site, www.usdoj.gov. These guidelines explain how DOJ will ensure and maximize the quality, objectivity, utility, and integrity of information disseminated by DOJ. The guidance also details the administrative mechanisms that will allow affected persons to seek and obtain appropriate correction of information maintained and disseminated by DOJ that does not comply with agency or OMB guidelines.

DATES: The guidelines will become effective on October 1, 2002.

FOR FURTHER INFORMATION CONTACT: Mr. Eric Nelson, (202) 307-1825.

Dated: September 26, 2002.
Dated: September 30, 2002.
Robert F. Diegelman,
Acting Assistant Attorney General for Administration.
Dated: September 27, 2002.
Vance Hitch,
Chief Information Officer.

[FR Doc. 02-25274 Filed 10-3-02; 8:45 am]

BILLING CODE 4410-AP-M